DEPARTMENT OF COMMERCE

Foreign-Trade Zones Board

[Order No. 1659]

Reorganization of Foreign-Trade Zone 234 Under Alternative Site Framework, Gregg County, TX

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, Gregg County, Texas, grantee of Foreign-Trade Zone 234, submitted an application to the Board (FTZ Docket 27-2009, filed 7/7/2009) for authority to reorganize under the ASF with a service area of Gregg County, Texas, adjacent to the Shreveport-Bossier City Customs and Border Protection port of entry, and FTZ 234's existing Sites 1 through 3 would be categorized as magnet sites;

Whereas, notice inviting public comment was given in the Federal Register (74 FR 34714-34715, 7/17/09) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 234 under the alternative site framework is approved, subject to the FTZ Act and the Board's regulations, including Section 400.28, to the Board's standard 2,000-acre activation limit for the overall general-purpose zone project, and to a five-year ASF sunset provision for magnet sites that would terminate authority for Sites 2 and 3 if not activated by January 31, 2015.

Signed at Washington, DC, this 15th day of January 2010.
Ronald K. Lorentzen,
Deputy Assistant Secretary for Import Administration, Alternate Chairman, Foreign-Trade Zones Board.
Andrew McGilvray,
Executive Secretary.

[FR Doc. 2010-1631 Filed 1-26-10; 8:45 am]

BILLING CODE P